DEPARTMENT OF JUSTICE

Notice of Lodging of Consent Decree Pursuant to the Clean Water Act

Notice is hereby given, in accordance with 28 CFR 50.7, that on May 11, 2000, the United States lodged a proposed Consent Decree with the United States District Court for the Western District of Wisconsin, in United States v. Enzyme Bio-Systems, Ltd., Case No. 00-C-283-S (W.D. Wis.), under section 309 of the Clean Water Act, 33 U.S.C. 1319. The proposed Consent Decree resolves certain claims of the United States against Enzyme Bio-Systems, arising out of Enzyme Bio-Systems' plant located at 2600 Kennedy Drive, Beloit, Wisconsin. Specifically, the United States alleged that Enzyme Bio-Systems, in violation of section 307(d) of the Clean Water Act, 33 U.S.C. 1317(d), exceeded certain effluent limitations set forth in its Industrial Discharge Permit issued to Enzyme Bio-Systems by the City of Beloit, Wisconsin.

Under the proposed Consent Decree Enzyme Bio-Systems will pay the United States a $46,100 civil penalty, Additionally, the proposed Consent Decree provides for the implementation of a Supplemental Environmental Project (“SEP”) that requires expenditures of at least $850,000. The SEP involves Enzyme Bio-Systems: purchasing a pretreatment plant previously abandoned by the City of Beloit; installing and operating a reverse osmosis membrane treatment system capable of treating 25,000 gallons per day of high strength BOD; hauling the BOD filtrate off site for application as a soil conditioner, possible fertilizer substitute, or other environmentally beneficial reuse; petitioning the City to reduce Enzyme Bio-Systems' allowable effluent limits set forth in its Industrial Discharge Permit; and providing EPA with a SEP completion report and quarterly progress reports. This pollution reduction/prevention SEP will reduce the BOD load to the Beloit POTW, reduce the use of artificial chemical fertilizers by the potential land application of the BOD filtrate as fertilizer, and result in revenue to the City of Beloit for the purchase of its abandoned pretreatment facility. Because the technology of the reverse osmosis membrane system is very innovative and carries a risk of technological impracticability, if the pilot studies demonstrate that the membrane system cannot effectively filter high strength BOD filtrate, then Enzyme Bio-Systems can elect to pay an optional additional civil penalty in lieu of completing its obligations under the SEP requirements.

The Department of Justice will accept written comments relating to the proposed Consent Decree for 30 days after publication of this Notice. Comments should be addressed to the Assistant Attorney General, Environment and Natural Resources Division, United States Department of Justice, P.O. Box 7611, Ben Franklin Station, Washington, DC 20044-7611, and should refer to United States v. Enzyme Bio-Systems, Ltd., Case No. 00-C-283-S (W.D. Wis.), DOJ No. 90-5-1-1-4504. The proposed Consent Decree may be examined at the Office of the United States Attorney for the Western District of Wisconsin, Madison, Wisconsin, and at the Region 5 Office of the United States Environment Protection Agency, 77 West Jackson Boulevard, Chicago, Illinois 60604. A copy of the proposed Consent Decree may also be obtained by mail from the U.S. Department of Justice, Consent Decree Library, P.O. Box 7611, Washington, DC 20044-7611. In requesting a copy, please enclose a check for reproduction costs (at 25 cents per page), in the amount of $5.25 for the Decree, payable to the Consent Decree Library.

Joel M. Gross,
Chief, Environmental Enforcement Section, Environment and Natural Resources Division, Department of Justice.

[FR Doc. 00-12732 Filed 5-19-00; 8:45 am]

BILLING CODE 4410-15-M